DEPARTMENT OF ENERGY

Federal Energy Regulatory Commission

[Docket No. EC00-104-000, et al.]

El Paso Electric Company, et al.; Electric Rate and Corporate Regulation Filings

July 7, 2000.

Take notice that the following filings have been made with the Commission:

1. El Paso Electric Company, El Paso Electric Generating Company, El Paso Electric Transmission and Distribution Company

[Docket Nos. EC00-104-000, ER00-2870-000 and ES00-46-000]

Take notice that on June 16, 2000, El Paso Electric Company (EPE), El Paso Electric Generating Company (EPE Genco), and El Paso Electric Transmission and Distribution Company (T&D Utility) (collectively, Applicants) tendered for filing an application under section 203 of the Federal Power Act for approval to transfer certain jurisdictional facilities and under section 204 of the Federal Power Act for approval of certain securities transactions necessary to implement a corporate restructuring. The Applicants also tendered for filing under section 205 of the Federal Power Act certain related wholesale power sale contracts.

Comment date: July 24, 2000, in accordance with Standard Paragraph E at the end of this notice.

2. CD Stillwater-A, Inc.

[Docket No. EG00-195-000]

Take notice that on June 29, 2000, CD Stillwater-A, Inc. (the Applicant), with its principal place of business at 111 Market Place, Suite 200, Baltimore, Maryland 21202, filed with the Federal Energy Regulatory Commission an application for determination of exempt wholesale generator status pursuant to Part 365 of the Commission's regulations.

Comment date: July 28, 2000, in accordance with Standard Paragraph E at the end of this notice. The Commission will limit its consideration of comments to those that concern the adequacy or accuracy of the application.

3. CD Stillwater-B, Inc.

[Docket No. EG00-196-000]

Take notice that on June 29, 2000, CD Stillwater-B, Inc. (the Applicant), with its principal place of business at 111 Market Place, Suite 200, Baltimore, Maryland 21202, filed with the Federal Energy Regulatory Commission an application for determination of exempt wholesale generator status pursuant to Part 365 of the Commission's regulations.

Comment date: July 28, 2000, in accordance with Standard Paragraph E at the end of this notice. The Commission will limit its consideration of comments to those that concern the adequacy or accuracy of the application.

4. CD Stillwater-C, Inc.

[Docket No. EG00-197-000]

Take notice that on June 29, 2000, CD Stillwater-C, Inc. (the Applicant), with its principal place of business at 111 Market Place, Suite 200, Baltimore, Maryland 21202, filed with the Federal Energy Regulatory Commission an application for determination of exempt wholesale generator status pursuant to Part 365 of the Commission's regulations.

Comment date: July 28, 2000, in accordance with Standard Paragraph E at the end of this notice. The Commission will limit its consideration of comments to those that concern the adequacy or accuracy of the application.

5. CE Puna Limited Partnership

[Docket No. EG00-198-000]

Take notice that on June 29, 2000, CE Puna Limited Partnership (Applicant), with its principal place of business at 111 Market Place, Suite 200, Baltimore, Maryland 21202, filed with the Federal Energy Regulatory Commission an application for determination of exempt wholesale generator status pursuant to Part 365 of the Commission's regulations.

Comment date: July 28, 2000, in accordance with Standard Paragraph E at the end of this notice. The Commission will limit its consideration of comments to those that concern the adequacy or accuracy of the application.

6. Aques Investments Corporation II

[Docket No. EG00-199-000]

Take notice that on June 29, 2000, Aques Investments Corporation II (the Applicant), with its principal place of business at 111 Market Place, Suite 200, Baltimore, Maryland 21202, filed with the Federal Energy Regulatory Commission an application for determination of exempt wholesale generator status pursuant to Part 365 of the Commission's regulations.

Comment date: July 28, 2000, in accordance with Standard Paragraph E at the end of this notice. The Commission will limit its consideration of comments to those that concern the adequacy or accuracy of the application.

7. CD Soda III, Inc.

[Docket No. EG00-200-000]

Take notice that on June 29, 2000, CD Soda III, Inc. (the Applicant), with its principal place of business at 111 Market Place, Suite 200, Baltimore, Maryland 21202, filed with the Federal Energy Regulatory Commission an application for determination of exempt wholesale generator status pursuant to Part 365 of the Commission's regulations.

Comment date: July 28, 2000, in accordance with Standard Paragraph E at the end of this notice. The Commission will limit its consideration of comments to those that concern the adequacy or accuracy of the application.

8. CD ACE I, Inc.

[Docket No. EG00-201-000]

Take notice that on June 30, 2000, CD ACE I, Inc. (the Applicant), with its principal place of business at 111 Market Place, Suite 200, Baltimore, Maryland 21202, filed with the Federal Energy Regulatory Commission an application for determination of exempt wholesale generator status pursuant to Part 365 of the Commission's regulations.

Comment date: July 28, 2000, in accordance with Standard Paragraph E at the end of this notice. The Commission will limit its consideration of comments to those that concern the adequacy or accuracy of the application.

9. CD ACE II, Inc.

[Docket No. EG00-202-000]

Take notice that on June 30, 2000, CD ACE II, Inc. (the Applicant), with its principal place of business at 111 Market Place, Suite 200, Baltimore, Maryland 21202, filed with the Federal Energy Regulatory Commission an application for determination of exempt wholesale generator status pursuant to Part 365 of the Commission's regulations.

Comment date: July 28, 2000, in accordance with Standard Paragraph E at the end of this notice. The Commission will limit its consideration of comments to those that concern the adequacy or accuracy of the application.

10. CD ACE III, Inc.

[Docket No. EG00-203-000]

Take notice that on June 30, 2000, CD ACE III, Inc. (the Applicant), with its principal place of business at 111 Market Place, Suite 200, Baltimore, Maryland 21202, filed with the Federal Energy Regulatory Commission an application for determination of exempt wholesale generator status pursuant to Part 365 of the Commission's regulations.

Comment date: July 28, 2000, in accordance with Standard Paragraph E at the end of this notice. The Commission will limit its consideration of comments to those that concern the adequacy or accuracy of the application.

11. CD ACE IV, Inc.

[Docket No. EG00-204-000]

Take notice that on June 30, 2000, CD ACE IV, Inc. (the Applicant), with its principal place of business at 111 Market Place, Suite 200, Baltimore, Maryland 21202, filed with the Federal Energy Regulatory Commission an application for determination of exempt wholesale generator status pursuant to Part 365 of the Commission's regulations.

Comment date: July 28, 2000, in accordance with Standard Paragraph E at the end of this notice. The Commission will limit its consideration of comments to those that concern the adequacy or accuracy of the application.

12. CE Wayne I, Inc.

[Docket No. EG00-205-000]

Take notice that on June 30, 2000, CE Wayne I, Inc. (the Applicant), with its principal place of business at 111 Market Place, Baltimore, Maryland 21202, filed with the Federal Energy Regulatory Commission (Commission) an application for determination of exempt wholesale generator status pursuant to Part 365 of the Commission's regulations.

Comment date: July 28, 2000, in accordance with Standard Paragraph E at the end of this notice. The Commission will limit its consideration of comments to those that concern the adequacy or accuracy of the application.

13. COSI Sunnyside, Inc.

[Docket No. EG00-206-000]

Take notice that on June 30, 2000, COSI Sunnyside, Inc. (Applicant), with its principal place of business at 111 Market Place, Suite 200, Baltimore, Maryland 21202, filed with the Federal Energy Regulatory Commission an application for determination of exempt wholesale generator status pursuant to Part 365 of the Commission's regulations.

Comment date: July 28, 2000, in accordance with Standard Paragraph E at the end of this notice. The Commission will limit its consideration of comments to those that concern the adequacy or accuracy of the application.

14. Sunnyside II, L.P.

[Docket No. EG00-207-000]

Take notice that on June 30, 2000, Sunnyside II, L.P. (Applicant), with its principal place of business at 111 Market Place, Suite 200, Baltimore, Maryland 21202, filed with the Federal Energy Regulatory Commission an application for determination of exempt wholesale generator status pursuant to Part 365 of the Commission's regulations.

Comment date: July 28, 2000, in accordance with Standard Paragraph E at the end of this notice. The Commission will limit its consideration of comments to those that concern the adequacy or accuracy of the application.

15. COSI Central Wayne, Inc.

[Docket No. EG00-208-000]

Take notice that on June 30, 2000, COSI Central Wayne, Inc. (the Applicant), with its principal place of business at 111 Market Place, Suite 200, Baltimore, Maryland 21202, filed with the Federal Energy Regulatory Commission (“Commission”) an application for determination of exempt wholesale generator status pursuant to Part 365 of the Commission's regulations.

Comment date: July 28, 2000, in accordance with Standard Paragraph E at the end of this notice. The Commission will limit its consideration of comments to those that concern the adequacy or accuracy of the application.

16. Oleander Power Project, Limited Partnership

[Docket No. EG00-209-000]

Take notice that on June 30, 2000, Oleander Power Project, Limited Partnership (Oleander), a Florida limited partnership with its principal place of business at 111 Market Place, Suite 200, Baltimore, Maryland 21202 filed with the Federal Energy Regulatory Commission an application for determination of exempt wholesale generator status pursuant to Part 365 of the Commission's regulations.

Oleander proposes to construct, own and/or operate, a nominally rated approximately 875 MW natural gas and oil fired, simple cycle power plant (the “Eligible Facility”) in Brevard County, Florida and to sell electricity exclusively at wholesale. The proposed Eligible Facility is expected to commence commercial operation in the second quarter of 2002. All capacity, energy, and ancillary services from the Eligible Facility will be sold by Oleander exclusively at wholesale.

Comment date: July 28, 2000, in accordance with Standard Paragraph E at the end of this notice. The Commission will limit its consideration of comments to those that concern the adequacy or accuracy of the application.

17. Wolf Hills Energy, LLC

[Docket No. EG00-210-000]

Take notice that on June 30, 2000, Wolf Hills Energy, LLC (the Applicant), with its principal place of business at 111 Market Place, Suite 200, Baltimore, Maryland 21202, filed with the Federal Energy Regulatory Commission an application for determination of exempt wholesale generator status pursuant to Part 365 of the Commission's regulations.

Comment date: July 28, 2000, in accordance with Standard Paragraph E at the end of this notice. The Commission will limit its consideration of comments to those that concern the adequacy or accuracy of the application.

18. Holland Energy, LLC

[Docket No. EG00-211-000]

Take notice that on June 30, 2000, Holland Energy, LLC (the Applicant), with its principal place of business at 111 Market Place, Suite 200, Baltimore, Maryland 21202, filed with the Federal Energy Regulatory Commission an application for determination of exempt wholesale generator status pursuant to Part 365 of the Commission's regulations.

Comment date: July 28, 2000, in accordance with Standard Paragraph E at the end of this notice. The Commission will limit its consideration of comments to those that concern the adequacy or accuracy of the application.

19. University Park Energy, LLC

[Docket No. EG00-212-000]

Take notice that on June 30, 2000, University Park Energy, LLC (the Applicant), with its principal place of business at 111 Market Place, Suite 200, Baltimore, Maryland 21202, filed with the Federal Energy Regulatory Commission an application for determination of exempt wholesale generator status pursuant to Part 365 of the Commission's regulations.

Comment date: July 28, 2000, in accordance with Standard Paragraph E at the end of this notice. The Commission will limit its consideration of comments to those that concern the adequacy or accuracy of the application.

20. CD Panther Partners, L.P.

[Docket No. EG00-213-000]

Take notice that on June 30, 2000, CD Panther Partners, L.P. (the Applicant), with its principal place of business at 111 Market Place, Suite 200, Baltimore, Maryland 21202, filed with the Federal Energy Regulatory Commission an application for determination of exempt wholesale generator status pursuant to Part 365 of the Commission's regulations.

Comment date: July 28, 2000, in accordance with Standard Paragraph E at the end of this notice. The Commission will limit its consideration of comments to those that concern the adequacy or accuracy of the application.

21. Constellation Operating Services

[Docket No. EG00-214-000]

Take notice that on June 30, 2000, Constellation Operating Services (the Applicant), with its principal place of business at 111 Market Place, Suite 200, Baltimore, Maryland 21202, filed with the Federal Energy Regulatory Commission (Commission) an application for determination of exempt wholesale generator status pursuant to Part 365 of the Commission's regulations.

Comment date: July 28, 2000, in accordance with Standard Paragraph E at the end of this notice. The Commission will limit its consideration of comments to those that concern the adequacy or accuracy of the application.

22. Rio Nogales Power Project, L.P.

[Docket No. EG00-215-000]

Take notice that on June 30, 2000, Rio Nogales Power Project, L.P. (Rio Nogales), a Delaware limited partnership with its principal place of business at 111 Market Place, Suite 200, Baltimore, MD 21202 filed with the Federal Energy Regulatory Commission an application for determination of exempt wholesale generator status pursuant to Part 365 of the Commission's regulations.

Rio Nogales proposes to construct, own and/or operate, a nominally rated approximately 800 MW natural gas-fired, combined cycle power plant (the Eligible Facility) to be located in Seguin, Texas and to sell electricity exclusively at wholesale. The proposed Eligible Facility is expected to commence commercial operation in the second quarter of 2002. All capacity, energy and ancillary services from the Eligible Facility will be sold by Rio Nogales exclusively at wholesale.

Comment date: July 28, 2000, in accordance with Standard Paragraph E at the end of this notice. The Commission will limit its consideration of comments to those that concern the adequacy or accuracy of the application.

23. CE Colver Limited Partnership

[Docket No. EG00-216-000]

Take notice that on June 30, 2000, CE Colver Limited Partnership (the Applicant), with its principal place of business at 111 Market Place, Suite 200, Baltimore, Maryland 21202, filed with the Federal Energy Regulatory Commission an application for determination of exempt wholesale generator status pursuant to Part 365 of the Commission's regulations.

Comment date: July 28, 2000, in accordance with Standard Paragraph E at the end of this notice. The Commission will limit its consideration of comments to those that concern the adequacy or accuracy of the application.

24. CE Colver I, Inc.

[Docket No. EG00-217-000]

Take notice that on June 30, 2000, CE Colver I, Inc. (the Applicant), with its principal place of business at 111 Market Place, Suite 200, Baltimore, Maryland 21202, filed with the Federal Energy Regulatory Commission an application for determination of exempt wholesale generator status pursuant to Part 365 of the Commission's regulations.

Comment date: July 28, 2000, in accordance with Standard Paragraph E at the end of this notice. The Commission will limit its consideration of comments to those that concern the adequacy or accuracy of the application.

25. CE Central Wayne Energy Recovery, Limited Partnership

[Docket No. EG00-218-000]

Take notice that on June 30, 2000, CE Central Wayne Energy Recovery, Limited Partnership (the Applicant), with its principal place of business at 111 Market Place, Suite 200, Baltimore, Maryland 21202, filed with the Federal Energy Regulatory Commission (Commission) an application for determination of exempt wholesale generator status pursuant to Part 365 of the Commission's regulations.

Comment date: July 28, 2000, in accordance with Standard Paragraph E at the end of this notice. The Commission will limit its consideration of comments to those that concern the adequacy or accuracy of the application.

26. COSI A/C Power, Inc.

[Docket No. EG00-219-000]

Take notice that on June 30, 2000, COSI A/C Power, Inc., with its principal place of business at 111 Market Place, Suite 200, Baltimore, Maryland 21202, filed with the Federal Energy Regulatory Commission an application for determination of exempt wholesale generator status pursuant to Part 365 of the Commission's regulations.

Comment date: July 28, 2000, in accordance with Standard Paragraph E at the end of this notice. The Commission will limit its consideration of comments to those that concern the adequacy or accuracy of the application.

27. ANP Operations Company

[Docket No. EG00-220-000]

Take notice that on July 3, 2000, ANP Operations Company (Applicant), a Delaware corporation, whose address is 10000 Memorial Drive, Suite 500, Houston, Texas 77024, filed with the Federal Energy Regulatory Commission an application for determination of exempt wholesale generator status pursuant to part 365 of the Commission's regulations.

Applicant intends to operate the following eligible facilities: (i) An approximate 1,650 MW natural gas-fired combined-cycle independent power production facility, including ancillary and appurtenant structures, located near Midlothian, Texas; (ii) an approximate 550 MW natural gas-fired combined-cycle independent power production facility, including ancillary and appurtenant structures, located in Bellingham, Massachusetts; (iii) an approximate 550 MW natural gas-fired combined-cycle independent power production facility, including ancillary and appurtenant structures, located in Blackstone, Massachusetts; and (iv) an approximate 1,100 MW natural gas-fired combined-cycle independent power production facility, including ancillary and appurtenant structures, located in Hays County, Texas (collectively, the Facilities). The Facilities are or, to the extent currently under development, will be operated by Applicant.

Comment date: July 28, 2000, in accordance with Standard Paragraph E at the end of this notice. The Commission will limit its consideration of comments to those that concern the adequacy or accuracy of the application.

28. ISO New England Inc.

[Docket Nos. EL00-59-001, EL00-62-003, ER00-2005-001, ER00-2016-001 and ER00-2052-004]

Take notice that on June 30, 2000, the New England Power Pool (NEPOOL) submitted the Fifty-Seventh Agreement Amending New England Power Pool Agreement (Fifty-Seventh Agreement) which extends the termination date for the conceptual agreement for a replacement Congestion Cost allocation methodology until the implementation effective date of a Commission order regarding a new Congestion Cost allocation methodology. A June 1, 2000 effective date has been requested.

NEPOOL states that copies of these materials were sent to the New England state governors and regulatory commissions and the NEPOOL Participants.

Comment date: July 31, 2000, in accordance with Standard Paragraph E at the end of this notice.

29. Entergy Services, Inc.

[Docket No. ER00-2854-000]

Take notice that on June 27, 2000, Entergy Services, Inc. (ESI), on behalf of the Entergy Operating Companies' (collectively, Entergy) filed amendments to the System Agreement consisting of work papers associated with the testimony contained in the June 15, 2000 filing in the above-referenced docket.

Comment date: July 18, 2000, in accordance with Standard Paragraph E at the end of this notice.

Standard Paragraphs

E. Any person desiring to be heard or to protest such filing should file a motion to intervene or protest with the Federal Energy Regulatory Commission, 888 First Street, N.E., Washington, D.C. 20426, in accordance with Rules 211 and 214 of the Commission's Rules of Practice and Procedure (18 CFR 385.211 and 385.214). All such motions or protests should be filed on or before the comment date. Protests will be considered by the Commission in determining the appropriate action to be taken, but will not serve to make protestants parties to the proceeding. Any person wishing to become a party must file a motion to intervene. Copies of these filings are on file with the Commission and are available for public inspection. This filing may also be viewed on the Internet at http://www.ferc.fed.us/ online/rims.htm (call 202-208-2222 for assistance).

David P. Boergers,
Secretary.

[FR Doc. 00-17958 Filed 7-14-00; 8:45 am]

BILLING CODE 6717-01-P